INTERNATIONAL TRADE COMMISSION

[Investigation No. 337-TA-1421]

Certain Rechargeable Batteries and Components and Packaging Thereof; Notice of a Commission Determination Not To Review an Initial Determination Terminating the Investigation as to the Last Active Respondents Based on Settlement; Request for Briefing on Remedy, the Public Interest, and Bonding

AGENCY: U.S. International Trade Commission.

ACTION: Notice.

SUMMARY: Notice is hereby given that the U.S. International Trade Commission has determined not to review an initial determination (“ID”) (Order No. 38) issued by the presiding administrative law judge (“ALJ”) granting a joint motion filed by complainants LithiumHub, LLC of Norris, SC, Lithiumhub Technologies, LLC of Marshall, TX, and Martin Koebler of Norris, SC (collectively, “Lithiumhub”) and respondents Bass Pro Outdoor World LLC and Cabela's LLC (collectively, “Bass Pro”), both of Springfield, MO, to terminate the investigation as to Bass Pro, the last active respondents, based on a settlement agreement. The Commission requests submissions on remedy, the public interest, and bonding concerning relief against defaulting respondent Shenzhen Yichen S-Power Tech Co. LTD (“Shenzhen Yichen”) of Shenzhen, China.

FOR FURTHER INFORMATION CONTACT: Paul Lall, Office of the General Counsel, U.S. International Trade Commission, 500 E Street SW, Washington, DC 20436, telephone (202) 205-2043. Copies of non-confidential documents filed in connection with this investigation may be viewed on the Commission's electronic docket (EDIS) at https://edis.usitc.gov. For help accessing EDIS, please email EDIS3Help@usitc.gov. General information concerning the Commission may also be obtained by accessing its internet server at https://www.usitc.gov. Hearing-impaired persons are advised that information on this matter can be obtained by contacting the Commission's TDD terminal, telephone (202) 205-1810.

SUPPLEMENTARY INFORMATION: On October 21, 2024, the Commission instituted the investigation based on a complaint filed by LithiumHub. 89 FR 84194-95 (Oct. 21, 2024). The complaint alleges violations of section 337 of the Tariff Act of 1930, as amended, 19 U.S.C. 1337, based upon the importation into the United States, the sale for importation, and the sale within the United States after importation of certain rechargeable batteries and components thereof by reason of the infringement of certain claims of U.S. Patent Nos. 9,412,994 and 9,954,207. The Commission's notice of investigation (“NOI”) named the following respondents: Bass Pro; Clean Republic SODO LLC (“Clean Republic”) of Seattle, WA; MillerTech Energy Solutions LLC (“MillerTech Energy”) of Middlefield, OH; Shenzhen Fbtech Electronics Ltd. (“Fbtech Electronics”) of Shenzhen, China; and Shenzhen LiTime Technology Co., Ltd. (“LiTime Technology”) of Shenzhen, China; Relion Battery (Shenzhen) Technology Co. (“Relion”) of Shenzhen, China; Renogy New Energy Co., Ltd. (“Renogy”) of Suzhou City, China; RNG International Inc. (“RNG”) of Ontario, CA; Navico Group Americas, LLC (“Navico”) of Menomonee Falls, WI; Dragonfly Energy Corp. and Dragonfly Energy Holdings Corp. (collectively, “Dragonfly”), both of Reno, NV; and Shenzhen Yichen. Id. The Office of Unfair Import Investigations (“OUII”) was also named as a party in this investigation. Id.

On February 3, 2025, the Commission found Shenzhen Yichen to be in default. See Order No. 11 (Jan. 8, 2025), unreviewed by Comm'n Notice (Feb. 3, 2025).

The Commission previously terminated other respondents based on settlement agreements. See Order No. 19 (Mar. 21, 2025), unreviewed by Comm'n Notice (Apr. 21, 2025) (Dragonfly); Order No. 25 (Apr. 29, 2025), unreviewed by Comm'n Notice (May 20, 2025) (Navico); Order Nos. 30 and 31 (June 2, 2025), unreviewed by Comm'n Notice (June 20, 2025) (Relion, Renogy, and RNG); Order Nos. 34 to 37 (July 9, 2025), unreviewed by Comm'n Notice (Aug. 4, 2025) (Clean Republic, MillerTech Energy, Fbtech Electronics, and LiTime Technology).

On May 29, 2025, Lithiumhub filed a “Declaration Seeking Immediate Relief” against defaulting respondent Shenzhen Yichen, pursuant to Commission Rule 210.16(c)(1) (19 CFR 210.16(c)(1)). EDIS Doc. ID 852300 (May 29, 2025). The declaration requests entry of a limited exclusion order and a cease and desist order against Shenzhen Yichen.

On July 10, 2025, Lithiumhub and Bass Pro filed a joint motion to terminate Bass Pro from this investigation based on a settlement agreement. On July 21, 2025, OUII filed a response in support of the joint motion.

On July 22, 2025, the presiding ALJ issued the subject ID (Order No. 38) pursuant to Commission Rule 210.21(b) (19 CFR 210.21(b)), granting the joint motion to terminate Bass Pro. See ID at 4. The ID finds that the motion included an unredacted version of the confidential agreement. The ID also finds that the joint motion includes the statement that “there are no other agreements, written or oral, express or implied between [complainants] and Bass Pro concerning the subject matter of this Investigation.” Id. at 2. Since Bass Pro is the only remaining non-defaulting respondent in the investigation, the ID terminates the investigation before the ALJ. Id. at 4. Order No. 38 also grants a request in the joint motion for limited service of the unredacted settlement agreement. Id. at 3.

No party filed a petition for review of the subject ID.

The Commission has determined not to review the subject ID. Respondents Bass Pro Outdoor World LLC and Cabela's LLC are hereby terminated from the investigation.

In connection with the final disposition of this investigation as to defaulting respondent Shenzhen Yichen, the statute authorizes issuance of, inter alia, (1) an exclusion order that could result in the exclusion of the subject articles from entry into the United States; and/or (2) a cease and desist order that could result in the respondent being required to cease and desist from engaging in unfair acts in the importation and sale of such articles. Accordingly, the Commission is interested in receiving written submissions that address the form of remedy, if any, that should be ordered. If a party seeks exclusion of an article from entry into the United States for purposes other than entry for consumption, the party should so indicate and provide information establishing that activities involving other types of entry either are adversely affecting it or likely to do so. For background, see Certain Devices for Connecting Computers via Telephone Lines, Inv. No. 337-TA-360, USITC Pub. No. 2843, Comm'n Op. at 7-10 (Dec. 1994).

The statute requires the Commission to consider the effects of that remedy upon the public interest. The public interest factors the Commission will consider include the effect that an exclusion order would have on: (1) the public health and welfare, (2) competitive conditions in the U.S. economy, (3) U.S. production of articles that are like or directly competitive with those that are subject to investigation, and (4) U.S. consumers. The Commission is therefore interested in receiving written submissions that address the aforementioned public interest factors in the context of this investigation.

If the Commission orders some form of remedy, the U.S. Trade Representative, as delegated by the President, has 60 days to approve, disapprove, or take no action on the Commission's determination. See Presidential Memorandum of July 21, 2005, 70 FR 43251 (July 26, 2005). During this period, the subject articles would be entitled to enter the United States under bond, in an amount determined by the Commission and prescribed by the Secretary of the Treasury. The Commission is therefore interested in receiving submissions concerning the amount of the bond that should be imposed if a remedy is ordered.

Written Submissions: Parties to the investigation, interested government agencies, and any other interested parties are encouraged to file written submissions on the issues of remedy, the public interest, and bonding. In their initial submission, Complainants are also requested to identify the remedy sought and Complainants and OUII are requested to submit proposed remedial orders for the Commission's consideration. Complainants are further requested to state the dates that the Asserted Patents expire, to provide the HTSUS subheadings under which the accused products are imported, and to supply the identification information for all known importers of the products at issue in this investigation. The initial written submissions and proposed remedial orders must be filed no later than close of business on August 28, 2025. Reply submissions must be filed no later than the close of business on September 4, 2025. No further submissions on any of these issues will be permitted unless otherwise ordered by the Commission.

Persons filing written submissions must file the original document electronically on or before the deadlines stated above pursuant to 19 CFR 210.4(f). Submissions should refer to the investigation number (Inv. No. 337-TA-1421) in a prominent place on the cover page and/or the first page. (See Handbook for Electronic Filing Procedures, https://www.usitc.gov/documents/handbook_on_filing_procedures.pdf). Persons with questions regarding filing should contact the Secretary, (202) 205-2000.

Any person desiring to submit a document to the Commission in confidence must request confidential treatment by marking each document with a header indicating that the document contains confidential information. This marking will be deemed to satisfy the request procedure set forth in Rules 201.6(b) and 210.5(e)(2) (19 CFR 201.6(b) & 210.5(e)(2)). Documents for which confidential treatment by the Commission is properly sought will be treated accordingly. Any non-party wishing to submit comments containing confidential information must serve those comments on the parties to the investigation pursuant to the applicable Administrative Protective Order. A redacted non-confidential version of the document must also be filed with the Commission and served on any parties to the investigation within two business days of any confidential filing. All information, including confidential business information and documents for which confidential treatment is properly sought, submitted to the Commission for purposes of this investigation may be disclosed to and used: (i) by the Commission, its employees and Offices, and contract personnel (a) for developing or maintaining the records of this or a related proceeding, or (b) in internal investigations, audits, reviews, and evaluations relating to the programs, personnel, and operations of the Commission including under 5 U.S.C. Appendix 3; or (ii) by U.S. government employees and contract personnel, solely for cybersecurity purposes. All contract personnel will sign appropriate nondisclosure agreements. All nonconfidential written submissions will be available for public inspection on EDIS.

The Commission vote for this determination took place on August 14, 2025.

The authority for the Commission's determination is contained in section 337 of the Tariff Act of 1930, as amended (19 U.S.C. 1337), and in Part 210 of the Commission's Rules of Practice and Procedure (19 CFR part 210).

By order of the Commission.
Issued: August 14, 2025.
Lisa Barton,
Secretary to the Commission.

[FR Doc. 2025-15705 Filed 8-18-25; 8:45 am]

BILLING CODE 7020-02-P